FEDERAL COMMUNICATIONS COMMISSION

47 CFR Parts 1 and 27

[WT Docket No. 12-357; FCC 13-88]

Service Rules for the Advanced Wireless Services H Block—Implementing Section 6401 of the Middle Class Tax Relief and Job Creation Act of 2012 Related to the 1915-1920 MHz and 1995-2000 MHz Bands

AGENCY: Federal Communications Commission.

ACTION: Final rule; announcement of effective date.

SUMMARY: In this document, the Commission announces that the Office of Management and Budget (OMB) has approved, for a period of three years, the information collection associated with the Commission's Report and Order (R&O) Service Rules for the Advanced Wireless Services H Block—Implementing Section 6401 of the Middle Class Tax Relief and Job Creation Act of 2012 related to the 1915-1920 MHz and 1995-2000 MHz Bands. This document is consistent with the R&O, which stated that the Commission would publish a document in the Federal Register announcing the effective date of those rules. Additionally, the Commission announces that OMB approved, for a period of three years, the revisions to the existing collection on FCC Form 601, which are also associated with the Commission's R&O, and that those revisions are also effective with publication of this document.

DATES: The effective date for §§ 1.946, 27.10, 27.12, and 27.17 that were adopted on June 27, 2013, and published in the Federal Register at 78 FR 50213, August 16, 2013, OMB Control 3060-1184, is January 17, 2014. The corresponding revisions to the existing collection on FCC Form 601, OMB Control Number 3060-0798, are also effective January 17, 2014.

FOR FURTHER INFORMATION CONTACT: Matthew Pearl, Wireless Telecommunications Bureau, Broadband Division, at (202) 418-BITS or by email at Matthew.Pearl@fcc.gov.

SUPPLEMENTARY INFORMATION: This document announces that, on September 26, 2013, OMB approved, for a period of three years, the new information collection requirements contained in the Commission's R&O, FCC 13-88, published at 78 FR 50213, August 16, 2013. The new OMB Control Number is 3060-1184. The Commission publishes this document as an announcement of the effective date of the H Block rules: §§ 1.946(d), 27.10(d), 27.12, and 27.17. In addition, the Commission notes that OMB previously approved or is in the process of approving revisions required by the R&O to existing information collections. To add the national security certification required by Section 6004 of the Middle Class Tax Relief and Job Creation Act of 2012, 47 U.S.C 1404, to the FCC Forms 175, 601, 603, and 608, the Commission has obtained or is in the process of obtaining OMB approval for revisions to its previously-approved information collections on those forms. The effective date for the revisions to the existing collection on FCC Form 175 has been published. See H Block Report and Order (Revisions to FCC Form 175, OMB Control 3060-0600), Effective Date Notice, published at 78 FR 66287, November 5, 2013. The revisions to the existing collection on FCC Form 601 were approved by OMB on January 2, 2014 and those revisions are also effective with this notice. See Notice of Office of Management and Budget Action, ICR Reference Number 201311-3060-018, FCC Application for Radio Service Authorization: WTB and PSHSB, FCC Form 601, OMB Control 3060-0798, Approved without change on Jan. 2, 2014, available at http://www.reginfo.gov/public/do/PRAOMBHistory?ombControlNumber=3060-0798#. To add this certification to the FCC Forms 603 and 608, the Commission is currently seeking OMB approval for revisions to its existing information collections on those forms, and OMB action on these revisions is anticipated on or after January 23, 2014 (when the comment cycle for the 30-day notice closes). See Information Collections Being Submitted for Review and Approval to the Office of Management and Budget, Revisions to FCC Application for Assignments of Authorization and Transfers of Control and FCC Application or Notification for Spectrum Leasing Arrangement: Wireless Telecommunications Bureau, Public Safety and Homeland Security Bureau, OMB Control Numbers 3060-0800 and 3060-1058 (FCC Forms 603, 608), published at 78 FR 77676 on Dec. 24, 2013, available at http://www.gpo.gov/fdsys/pkg/FR-2013-12-24/pdf/2013-30651.pdf. The Commission will publish an effective date notice once these revisions to FCC Forms 603 and 608 are approved by OMB. If you have any comments on the burden estimates listed below, or how the Commission can improve the collections and reduce any burdens caused thereby, please contact Cathy Williams at (202) 418-2918 or via the Internet at Cathy.Williams@fcc.gov. Please include the new OMB Control Number, 3060-1184, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on September 26, 2013, which contained new and modified information collection requirements, in 47 CFR 1.946(d), 27.10(d), 27.12, and 27.17, which would not be effective until approved by the Office of Management and Budget. The information collection was adopted in the Report and Order in WT Docket No. 12-357, FCC 13-88, which appears at 78 FR 50213, August 16, 2013, adopts flexible use rules for 10 megahertz of spectrum in the 1915-1920 MHz and 1995-2000 MHz spectrum bands (H Block) that would increase the nation's supply of spectrum for mobile broadband. We adopt H Block terrestrial service rules, modified as necessary to account for issues unique to the H Block bands. First, we find the spectrum is properly allocated for commercial use as required by the Spectrum Act. Second, we determine the H Block can be used without causing harmful interference to PCS operations in the 1930-1995 MHz band. Third, we establish 1915-1920 MHz paired with 1995-2000 MHz as the H Block band plan. Fourth, we adopt technical rules that authorize mobile and fixed operations in the bands and protect operations in adjacent and nearby spectrum bands from harmful interference pursuant to the requirements of the Spectrum Act. Fifth, we adopt cost sharing rules that require H Block licensees to pay a pro rata share of expenses incurred through clearing the 1915-1920 MHz and 1995-2000 MHz bands. Sixth, we adopt a variety of flexible use regulatory, licensing, and operating rules for H Block licensees. Seventh, we adopt performance requirements for the H Block spectrum. Specifically, a licensee of H Block will be subject to build-out requirements that require a licensee to provide terrestrial signal coverage and offer terrestrial service to at least 40 percent of its license areas' population within four years, and to at least 75 percent of the population in each of its license areas within ten years, and to appropriate penalties if these benchmarks are not met. Eighth, we adopt procedures to assign H Block licenses through a system of competitive bidding.

The effective date of the rules adopted in that Report and Order was published as August 16, 2013, except for §§ 1.946(d), 27.10(d), 27.12, and 27.17. Through this document, the Commission announces that it has received this approval (new OMB Control No. 3060-1184, Expiration Date: September 30, 2016) and that §§ 1.946(d), 27.10(d), 27.12, and 27.17 were approved by OMB on September 26, 2013.

The Commission has also received approval to add the national security certification required by Section 6004 of the Middle Class Tax Relief and Job Creation Act of 2012, 47 U.S.C 1404, to the FCC Form 601. Additionally, the FCC Form 601 is revised to update the Alien Ownership certifications pursuant to the Second Report and Order, FCC 13-50, IB Docket 11-133, Review of Foreign Ownership Policies for Common Carrier and Aeronautical Radio Licensees under section 310(b)(4) of the Communications Act of 1934, as Amended, published at 78 FR 41314-01 on July 10, 2013, available at http://www.gpo.gov/fdsys/pkg/FR-2013-07-23/pdf/2013-17711.pdf.

Under 5 CFR Part 1320, an agency may not conduct or sponsor a collection of information unless it displays a current, valid OMB Control Number. No person shall be subject to any penalty for failing to comply with a collection of information subject to the Paperwork Reduction Act that does not display a current, valid OMB Control Number. The OMB Control Numbers are 3060-1184 and 3060-0798. The foregoing notice is required by the Paperwork Reduction Act of 1995, Public Law 104-13, October 1, 1995, and 44 U.S.C. 3507.

The total annual reporting burdens and costs for the respondents are as follows:

OMB Control Number: 3060-1184.

OMB Approval Date: September 26, 2013.

OMB Expiration Date: September 30, 2016.

Title: Service Rules for the Advanced Wireless Services H Block—Implementing Section 6401 of the Middle Class Tax Relief and Job Creation Act of 2012 Related to the 1915-1920 MHz and 1995-2000 MHz Bands.

Form Number: N/A.

Respondents: Business or other for-profit entities, not-for-profit institutions, Federal Government, and state, local or tribal government.

Number of Respondents: 4 respondents; 4 responses.

Estimated Time per Response: 2 hours.

Frequency of Response: On occasion, reporting, recordkeeping requirements, and third party disclosure requirement.

Obligation To Respond: Required to obtain or retain benefits. Statutory authority for these collections are contained in 15 U.S.C. 79 et seq.; 47 U.S.C. 151, 154(i), 154(j), 155, 157, 225, 227, 303(r), 309, 310, 1404, and 1451.

Total Annual Burden: 2 hours.

Total Annual Cost: 0.

Privacy Impact Assessment: N/A.

Nature and Extent of Confidentiality: There is no need for confidentiality.

Needs and Uses: The following information collection requirements which were not effective until approved by the Office of Management and Budget apply to the following rule sections:

(a) Section 1.946 requires H Block licensees to file a construction notification and certify that they have met the applicable performance benchmarks.

(b) Section 27.10 requires an H Block licensee to notify the Commission within 30 days if it changes, or adds to, the carrier status on its license.

(c) Section 27.12 requires H Block licensees to comply with certain eligibility reporting requirements.

(d) Section 27.17 requires H Block licensees to notify the Commission within ten days if they permanently discontinue service by filing FCC Form 601 or 605 and requesting license cancellation.

OMB Control No.: 3060-0798.

OMB Approval Date: January 2, 2014.

OMB Expiration Date: January 31, 2017.

Title: FCC Application for Radio Service Authorization:

Wireless Telecommunications Bureau

Public Safety and Homeland Security Bureau

Form No.: FCC Form 601.

Type of Review: Revision of a currently approved collection.

Respondents: Individuals or households; Business or other for-profit; Not-for-profit institutions; and State, Local or Tribal government.

Number of Respondents: 253,120.

Estimated Time per Response: 1.25 hours.

Frequency of Response: On occasion reporting requirement, third party disclosure requirement, Record Keeping & Other—10 year.

Obligation To Respond: Required to obtain or retain benefits.

Total Annual Burden: 221,780 hours.

Total Annual Cost: $55,410,000.

Privacy Act Impact Assessment: Yes.

Nature and Extent of Confidentiality: In general there is no need for confidentiality. On a case by case basis, the Commission may be required to withhold from disclosure certain information about the location, character, or ownership of a historic property, including traditional religious sites.

Needs and Uses: FCC Form 601 is a consolidated, multi-part application form, or “long form,” that is used for general market-based licensing and site-by-site licensing for wireless telecommunications and public safety services filed through the Commission's Universal Licensing System (ULS). FCC Form 601 is composed of a main form that contains the administrative information and a series of schedules used for filing technical and other information. Respondents are encouraged to submit FCC Form 601 electronically and are required to do so when submitting FCC Form 601 to apply for an authorization for which the applicant was the winning bidder in a spectrum auction.

The data collected on FCC Form 601 include the FCC Registration Number (FRN), which serves as a “common link” for all filings an entity has with the FCC. The Debt Collection Improvement Act of 1996 requires that those entities filing with the Commission to use a FRN.

FCC Form 601 is being used for auctionable services as they are implemented; FCC Form 601 is used to apply for a new authorization, or to amend a pending application for an authorization to operate a license wireless radio services. This includes Public Mobile Services, Personal Communications Services, General Wireless Communications Services, Private Land Mobile Radio Services, Broadcast Auxiliary Services, Fixed Microwave Services, Instructional Television Fixed Service (ITFS) and the Multipoint Distribution Service (MDS), Maritime Services (excluding ships), and Aviation Services (excluding aircraft). It may also be used to modify or renew an existing license, cancel a license, withdraw a pending application, obtain a duplicate license, submit required notifications, request an extension of time to satisfy construction requirements, or request an administrative update to an existing license (such as mailing address change), request a Special Temporary Authority (STA) or a Developmental License.

The FCC Form 601 is revised to add a National Security Certification that is applicable to applicants for licenses issued as a result of the Middle Class Tax Relief and Job Creation Act of 2012 (2012 Spectrum Act). Section 6004 of the 2012 Spectrum Act, 47 U.S.C 1404, prohibits a person who has been, for reasons of national security, barred by any agency of the Federal Government from bidding on a contract, participating in an auction, or receiving a grant from participating in any auction that is required or authorized to be conducted pursuant to the 2012 Spectrum Act.

Additionally, the FCC Form 601 is being revised to update the Alien Ownership certifications pursuant to the Second Report and Order FCC 13-50 IB Docket 11-133 Review of Foreign Ownership Policies for Common Carrier and Aeronautical Radio Licensees under section 310(b)(4) of the Communications Act of 1934, as Amended.

The Commission will use the information to ensure H Block licensees' compliance with required filings of notifications, certifications, regulatory status changes, and applicable performance benchmarks. Also, such information will be used to verify whether H Block applicants and, in the context of the national security certification requirement, whether other applicants for Spectrum Act licenses are legally and technically qualified to hold licenses; and to determine compliance with Commission rules. Any submissions made through the Universal Licensing System must be filed electronically.

Federal Communications Commission.
Marlene H. Dortch,
Secretary.

[FR Doc. 2014-01055 Filed 1-16-14; 8:45 am]

BILLING CODE 6712-01-P